NATIONAL ARCHIVES AND RECORDS ADMINISTRATION

Privacy Act of 1974, as Amended; System of Records Notices

AGENCY: National Archives and Records Administration.

ACTION: Notice; new privacy system of records titled “Contestant Application Files”.

SUMMARY: The National Archives and Records Administration (NARA) proposes to add a system of records to its existing inventory of systems subject to the Privacy Act of 1974, as amended (5 U.S.C. 552(a)) (“Privacy Act”). In this notice, NARA publishes NARA 42, the Contestant Applications, which includes persons who entered contests conducted by NARA.

DATES: This new system of records, NARA 42, will become effective May 31, 2012 without further notice unless comments are received that result in further revision. NARA will publish a new notice if the effective date is delayed to review comments or if changes are made based on comments received. To be assured of consideration, comments should be received on or before the date above.

ADDRESSES: You may submit comments, identified by SORN number NARA 42, by one of the following methods:

• Federal e-Rulemaking Portal: http://www.regulations.gov. Follow the instructions for submitting comments.

• Fax: 301-837-0293.

• Mail: Laura McCarthy, Strategy Division, Room 4100, National Archives and Records Administration, 8601 Adelphi Road, College Park, MD 20740-6001.

FOR FURTHER INFORMATION CONTACT: Pamela Wright, Open Government Office, Room 3200, National Archives and Records Administration, 8601 Adelphi Road, College Park, MD 20740-6001. Telephone: (301) 837-2029. Fax: 301-837-0312.

SUPPLEMENTARY INFORMATION: The America Competes Act, H.R. 5116, signed into law on Jan. 4, 2011, authorizes Federal agencies to carry out a program to award prizes competitively to stimulate innovation that has the potential to advance the mission of the respective agency. The National Archives conducts contests in accordance with this statutory authority.

The notice for this system of records states the name and the location of the record system, the authority for and manner of its operation, the categories of individuals that it covers, the types of records that it contains, the sources of information in the records, and the proposed “routine uses” of the system of records. The notice also includes the business address of the NARA official who will inform interested persons of the procedures whereby they may gain access to, and correct, records pertaining to themselves.

One of the purposes of the Privacy Act, as stated in section 2(b)(4) of the Act, is to provide certain safeguards for an individual against an invasion of personal privacy by requiring Federal agencies to disseminate any record of identifiable personal information in a manner that assures that such action is for a necessary and lawful purpose, that the information is current and accurate for its intended use, and that adequate safeguards are provided to prevent misuse of such information. NARA intends to follow these principles in transferring information to another agency or individual as a “routine use” including assurance that the information is relevant for the purposes for which it is transferred.

Dated: May 21, 2012.
David S. Ferriero,
Archivist of the United States.

NARA Privacy Act Systems: NARA 42

SYSTEM NAME:

Contestant Application Files.

SYSTEM LOCATION:

The Contestant Application files are maintained in the regional archives, presidential library, or NARA headquarters facility that organized the competition, contest, or challenge. Addresses are located at http://www.archives.gov/locations/. Contestant application information may also be maintained electronically on the Web site through which the contest was conducted, such as www.challenge.gov.

CATEGORIES OF INDIVIDUALS COVERED BY THE SYSTEM:

Individuals covered by this system include persons who entered contests conducted by the National Archives and Records Administration.

CATEGORIES OF RECORDS IN THE SYSTEM:

The Contestant Applications may contain some or all of the following information: the user name under which the entry was submitted, name, email address, mailing address, phone number, contestant submission, prize information if one was awarded, parental or legal guardian information in the event the applicant was a minor, grant of license to use intellectual property associated with the contest submission, and any additional information provided by the contestant related to the administration of the competition.

AUTHORITY FOR MAINTENANCE OF THE SYSTEM:

5 U.S.C. 552a(a)(3), as amended.

44 U.S.C. 2104(a), as amended.

42 U.S.C. 1861.

ROUTINE USES OF RECORDS MAINTAINED IN THE SYSTEM, INCLUDING CATEGORIES OF USERS AND THE PURPOSES OF SUCH USES:

NARA maintains the contest applicant information and related information concerning contest submissions. Routine uses A, B, C, D, E, F, G, and H listed in Appendix A apply to this system.

POLICIES AND PRACTICES FOR STORING, RETRIEVING, ACCESSING, RETAINING, AND DISPOSING OF RECORDS IN THE SYSTEM:

STORAGE:

Paper and electronic records.

RETRIEVABILITY:

Information in these case files may be retrieved by the user name of the contestant, name contest information, location of contestant or other field provided by the electronic platform on which the contest is hosted.

SAFEGUARDS:

The case files are at all times maintained in buildings with secured doors. During business hours records are accessible only by authorized NARA personnel. Electronic records are accessible via secure user names and passwords. After business hours, or when NARA personnel are not present in the offices, the paper records are secured in locked filing cabinets.

RETENTION AND DISPOSAL:

NARA contestant application files are temporary records and are destroyed in accordance with the disposition instructions in the NARA Records Schedule supplement to FILES 203, the NARA Files Maintenance and Records Disposition Manual. Individuals may request a copy of the disposition instructions from the NARA Privacy Act Officer.

SYSTEM MANAGER(S) AND ADDRESS:

For these case files, the system manager is Jill James, Office of Information Services, Room 3200, National Archives and Records Administration, 8601 Adelphi Road, College Park, MD 20740-6001. Telephone: (301) 837-0760. Fax: 301-837-0312.

NOTIFICATION PROCEDURE:

Individuals interested in inquiring about their records are to notify the NARA Privacy Act Officer at the address listed in Appendix B following the NARA notice.

RECORDS ACCESS PROCEDURES:

Individuals interested in inquiring about their records should notify the NARA Privacy Act Officer at the Privacy Act Officer, Room 3110, National Archives and Records Administration, 8601 Adelphi Road, College Park, MD 20740-6001.

CONTESTING RECORDS PROCEDURES:

NARA rules for contesting the contents and appealing initial determinations are found in 36 CFR part 1202.

RECORDS SOURCE CATEGORIES:

Information in these contestant application files is obtained from persons who participate in contests organized by the National Archives.

[FR Doc. 2012-13201 Filed 5-30-12; 8:45 am]

BILLING CODE 7515-01-P